ENVIRONMENTAL PROTECTION AGENCY

40 CFR Part 81

[EPA-R09-OAR-2006-AZ-0558; FRL-8292-7]

Approval and Promulgation of Implementation Plans; Designation of Areas for Air Quality Planning Purposes; State of Arizona; Boundary Redesignation; Finding of Attainment for Miami Particulate Matter of 10 Microns or Less (PM10) Nonattainment Area; Determination Regarding Applicability of Certain Clean Air Act Requirements; Correction

AGENCY: Environmental Protection Agency (EPA).

ACTION: Proposed rule.

SUMMARY: EPA is proposing to approve the State of Arizona's boundary redesignation of the Hayden/Miami PM10 nonattainment area into two separate PM10 nonattainment areas: Hayden and Miami. EPA is also proposing to find that the Miami PM10 nonattainment area is attaining the PM10 national ambient air quality standard, and, based on this attainment finding, EPA is proposing to determine that certain Clean Air Act requirements are not applicable for so long as the Miami area shows continued attainment of the standard based on current, publicly available, quality-assured monitoring data. EPA is taking this action consistent with obligations under the Clean Air Act to act on State redesignations. Lastly, EPA is proposing to correct two errors in previous rulemakings that involved the designations of PM10 areas within the State of Arizona.

DATES: Any comments on this proposal must arrive by April 27, 2007.

ADDRESSES: Submit your comments, identified by Docket ID No. EPA-R09-OAR-2006-AZ-0558 by one of the following methods:

• Federal eRulemaking portal: http://www.regulations.gov. Follow the on-line instructions for submitting comments.

• E-mail: tax.wienke@epa.gov.

• Fax: (415) 947-3579 (please alert the individual listed in

the FOR FURTHER INFORMATION CONTACT if you are faxing comments).

• Mail: Wienke Tax, Office of Air Planning, Environmental Protection Agency (EPA), Region 9, Mailcode AIR-2, 75 Hawthorne Street, San Francisco, California 94105-3901.

• Hand Delivery: Wienke Tax, Office of Air Planning, Environmental Protection Agency (EPA), Region 9, Mailcode AIR-2, 75 Hawthorne Street, San Francisco, California 94105-3901. Such deliveries are only accepted Monday through Friday, 8 a.m. to 4:55 p.m., excluding federal holidays. Special arrangements should be made for deliveries of boxed information.

Instructions: Direct your comments to Docket ID No. EPA-R09-OAR-2006-AZ-0558. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA, without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy form. Publicly available docket materials are available either electronically in http://www.regulations.gov or in hard copy at the Office of Air Planning, Environmental Protection Agency (EPA), Region 9, Mailcode AIR-2, 75 Hawthorne Street, San Francisco, California 94105-3901. EPA requests that if at all possible, you contact the individual listed in the FOR FURTHER INFORMATION CONTACT section to view the hard copy of the docket. You may view the hard copy of the docket Monday through Friday, 8 a.m. to 4 p.m., excluding federal holidays.

FOR FURTHER INFORMATION CONTACT: Wienke Tax, Office of Air Planning, U.S. Environmental Protection Agency, Region 9, (520) 622-1622, e-mail: tax.wienke@epa.gov.

SUPPLEMENTARY INFORMATION: Throughout this document, wherever “we,” “us,” or “our” is used, we mean the EPA.

This proposal addresses EPA's approval of the State of Arizona's boundary redesignation of the Hayden/Miami PM10 nonattainment area into two separate PM10 nonattainment areas: Hayden and Miami. EPA is also proposing to find that the Miami PM10 nonattainment area is attaining the PM10 national ambient air quality standard, and, based on this attainment finding, EPA is proposing to determine that certain Clean Air Act requirements are not applicable for so long as the Miami area shows continued attainment of the standard based on current, publicly available, quality-assured monitoring data. EPA is taking this action consistent with obligations under the Clean Air Act to act on State redesignations. Lastly, EPA is proposing to correct two errors in previous rulemakings that involved the designations of PM10 areas within the State of Arizona.

In the Rules and Regulations section of this Federal Register, we are taking direct final action to take these actions because we believe that they are not controversial. If we receive adverse comments, however, we will publish a timely withdrawal of the direct final rule and address the comments in subsequent action based on this proposed rule. We do not plan to open a second comment period, so anyone interested in commenting should do so at this time. If we do not receive comments, no further activity is planned.

For all the reasons set forth in the parallel direct final rule, we are proposing to approve the State of Arizona's boundary redesignation of the Hayden/Miami PM10 nonattainment area into two separate PM10 nonattainment areas: Hayden and Miami, and to determine that the Miami moderate PM10 nonattainment area in Arizona is attaining the PM10 national ambient air quality standard. A determination of attainment is not a redesignation to attainment under CAA section 107(d)(3) because we have not yet approved a maintenance plan as required under section 175A of the CAA or determined that the area has met the other CAA requirements for redesignation.

Also, for all the reasons set forth in the parallel direct final rule, we further propose to determine that, because the Miami area is attaining the PM10 NAAQS, certain attainment demonstration requirements, along with other related requirements of the CAA, are not applicable to the Miami area for so long as the area continues to attain. Lastly, EPA is proposing to correct two errors in previous rulemakings that involved the classification of PM10 nonattainment areas within the State of Arizona.

For further information on this proposal and the rationale underlying our proposed action, please see the direct final rule.

Dated: March 20, 2007.
Wayne Nastri,
Regional Administrator, Region 9.

[FR Doc. E7-5662 Filed 3-27-07; 8:45 am]

BILLING CODE 6560-50-P